CONSUMER FINANCIAL PROTECTION BUREAU

[Docket No: CFPB-2024-0042]

Privacy Act of 1974; System of Records

AGENCY: Consumer Financial Protection Bureau.

ACTION: Notice of a new system of records.

SUMMARY: In accordance with the Privacy Act of 1974, the Consumer Financial Protection Bureau (CFPB) proposes to modify, rename, and reissue a current Privacy Act System of Records titled “CFPB.002—Depository Institution Supervision Database.” In the course of its supervisory work, the CFPB collects, uses, and maintains information on covered individuals associated with depository institutions (e.g., banks, savings associations, credit unions) and non-depository institutions (herein collectively referred to as supervised institutions), and their affiliates and service providers subject to the authority of the CFPB. This SORN addresses information collected through the CFPB's supervisory and examination authorities under Federal consumer financial law. The CFPB is updating the name of this system of records and expanding the scope of the categories of individuals and records to account for the incorporation of information collected and maintained under another system of records, “CFPB.003—Non-Depository Supervision Database.” Upon publication of this modified System of Records Notice (SORN), the CFPB.003—Non-Depository Supervision Database SORN will be rescinded.

DATES: Comments must be received no later than October 9, 2024. The new system of records will be effective October 9, 2024 unless the comments received result in a contrary determination.

ADDRESSES: You may submit comments, identified by the title and docket number (see above Docket No. CFPB-2024-0042), by any of the following methods:

• Federal eRulemaking Portal: https://www.regulations.gov. Follow the instructions for submitting comments.

• Email: privacy@cfpb.gov. Include Docket No. CFPB-2024-0042 in the subject line of the email.

• Mail/Hand Delivery/Courier: Kathryn Fong, Chief Privacy Officer, Consumer Financial Protection Bureau, 1700 G Street NW, Washington, DC 20552. Because paper mail in the Washington, DC area and at CFPB is subject to delay, commenters are encouraged to submit comments electronically.

All submissions must include the agency name and docket number for this notice. In general, all comments received will be posted without change to https://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, (202) 435-7058. If you require this document in an alternative electronic format, please contact CFPB_Accessibility@cfpb.gov. Please do not submit comments to this email box.

SUPPLEMENTARY INFORMATION: In accordance with the Privacy Act of 1974, 5. U.S.C. 552a, the CFPB is modifying, renaming, and reissuing a CFPB system of records titled, “CFPB.002—Depository Institution Supervision Database,” to “CFPB.002—Supervision and Examination Records.” The CFPB update to CFPB.002—Depository Institution Supervision Database, now CFPB.002—Supervision and Examination Records, includes several changes.

First, the system of records is being renamed to account for the incorporation of information collected and maintained under another system of records titled, “CFPB.003—Non-Depository Supervision Database,” and better align with the purpose(s) of the system(s). “CFPB.003—Non-Depository Supervision Database” will be rescinded under separate notice.

Second, the legal authorities for this system of records has been updated to clarify that it covers the CFPB's supervisory work pursuant to Federal consumer financial law.

Third, the categories of individuals and categories of records has been expanded to account for the information collected on covered individuals associated with non-depository institutions and their affiliates and services providers subject to the authority of the CFPB.

Fourth, this update seeks to clarify the types of individuals whose information is contained in this system of records and sources of records contained in the system of records. Some items in these sections have been reorganized and edited to more clearly identify the individuals whose records may be present in this system of records, including contact information for Federal, State, local and other government regulators associated with an action or matter.

Finally, the CFPB will be making non-substantive revisions to this SORN to align with the Office of Management and Budget's recommended model in Circular A-108, appendix II. The report of the revised system of records has been submitted to the Committee on Oversight and Government Reform of the House of Representatives, the Committee on Homeland Security and Governmental Affairs of the Senate, and the Office of Management and Budget (OMB), in accordance with to OMB Circular A-108, “Federal Agency Responsibilities for Review, Reporting, and Publication under the Privacy Act” (Dec. 2016), and the Privacy Act of 1974, 5 U.S.C. 552a(r).

SYSTEM NAME AND NUMBER:

CFPB.002—Supervision and Examination Records.

SECURITY CLASSIFICATION:

This information system does not contain any classified information or data.

SYSTEM LOCATION:

Consumer Financial Protection Bureau, 1700 G Street NW, Washington, DC 20552.

SYSTEM MANAGER(S):

Program Director, Systems and Registrations, Office of Supervision, Bureau of Consumer Financial Protection, 1700 G Street NW, Washington, DC 20552; (202) 435-9633.

AUTHORITY FOR MAINTENANCE OF THE SYSTEM:

Public Law 111-203, title X, sections 1011, 1012, 1021, 1024, 1025, 1026, and 1061, codified at 12 U.S.C. 5491, 5492, 5511, 5514, 5515, 5516, and 5581.

PURPOSE(S) OF THE SYSTEM:

The purpose of this system of records is to enable the CFPB to carry out its responsibilities with respect to supervised entities to ensure compliance with Federal consumer protection laws and identify unfair, deceptive, or abusive acts and practices in connection with consumer financial products and services. The CFPB's use of records covered by this system of records are for the following purposes: (1) To conduct and coordinate examinations and reports, supervisory evaluations and analyses, and enforcement actions (including both CFPB activities and collaborations with other financial regulatory agencies); (2) To track and store examination and inspection documents created during the performance of CFPB's statutory duties; and (3) For administrative purposes to ensure quality control, performance, and improving management processes.

CATEGORIES OF INDIVIDUALS COVERED BY THE SYSTEM:

The CFPB collects and maintains information on the following categories of individuals: (1) Individuals who are current or former directors, officers, employees, agents, shareholders, and independent contractors of covered persons or service providers subject to the supervision of the CFPB; (2) Customers, prospective customers, or similar individuals who have been contacted by covered persons or service providers or are the subject of a consumer financial product or service; (3) Federal, State, local and other government regulators involved in an action or matter; and (4) CFPB staff assigned to monitor supervised institutions.

CATEGORIES OF RECORDS IN THE SYSTEM:

Categories of records in the system may include: (1) Information regarding customers, prospective customers, or similar individuals who have been contacted by covered persons or service providers or are the subject of a consumer financial product or service, including but not limited to full name, date of birth (DOB); contact information (e.g., address, phone number, email address), and account information (e.g., account numbers, information collected regarding consumer products and services) and demographic information (e.g., gender) associated with an individual; (2) Contact information for officials of institutions including, without limitation, name, address, phone number, and email address; (3) Contact information for staff of Federal, State, local and other government regulators, including, without limitation, name, address, phone number, and email address; (4) Information about CFPB employees assigned to supervision tasks, including, without limitation, name, address, phone number, and email address, and other employment information; and (5) Confidential Supervision Information or Personal Information, including information relating to individuals that is derived from Confidential Supervisory Information or from consumer complaints.

RECORD SOURCE CATEGORIES:

Information maintained in records is obtained directly from individuals; from Federal, State, local and other regulatory authorities, including State regulatory associations acting on behalf of State regulators, from entities subject to the CFPB's authority, and from CFPB staff.

ROUTINE USES OF RECORDS MAINTAINED IN THE SYSTEM, INCLUDING CATEGORIES OF USERS AND PURPOSES OF SUCH USES:

In addition to those disclosures generally permitted under 5 U.S.C. 552a(b) of the Privacy Act, and consistent with the CFPB's Disclosure of Records and Information Rules, promulgated at 12 CFR part 1070, all or a portion of the records or information contained in this system may be disclosed outside of the CFPB as a routine use pursuant to 5 U.S.C. 552a(b)(3) as follows:

(1) To appropriate agencies, entities, and persons when (a) the CFPB suspects or has confirmed that there has been a breach of the system of records; (b) the CFPB has determined that as a result of the suspected or confirmed breach there is a risk of harm to individuals, the CFPB (including its information systems, programs, and operations), the Federal Government, or national security; and (c) the disclosure made to such agencies, entities, and persons is reasonably necessary to assist in connection with the CFPB's efforts to respond to the suspected or confirmed breach or to prevent, minimize, or remedy such harm.

(2) Another Federal agency or Federal entity, when the CFPB determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(3) Another Federal or State agency to: (a) permit a decision as to access, amendment, or correction of records to be made in consultation with or by that agency, or (b) verify the identity of an individual or the accuracy of information submitted by an individual who has requested access to or amendment or correction of records.

(4) The Office of the President in response to an inquiry from that office made at the request of the subject of a record or a third party on that person's behalf.

(5) Congressional offices in response to an inquiry made at the request of the individual to whom the record pertains.

(6) Contractors, agents, or other authorized individuals performing work on a contract, service, cooperative agreement, job, or other activity on behalf of the CFPB or Federal Government and who have a need to access the information in the performance of their duties or activities.

(7) The DOJ for its use in providing legal advice to the CFPB or in representing the CFPB in a proceeding before a court, adjudicative body, or other administrative body, where the use of such information by the DOJ is deemed by the CFPB to be relevant and necessary to the advice or proceeding, and in the case of a proceeding, such proceeding names as a party in interest:

(a) The CFPB;

(b) Any employee of the CFPB in his or her official capacity;

(c) Any employee of the CFPB in his or her individual capacity where DOJ has agreed to represent the employee; or

(d) The United States, where the CFPB determines that litigation is likely to affect the CFPB or any of its components.

(8) Appropriate Federal, State, local, foreign, Tribal, or self-regulatory organizations or agencies responsible for investigating, prosecuting, enforcing, implementing, issuing, or carrying out a statute, rule, regulation, order, policy, or license if the information may be relevant to a potential violation of civil or criminal law, rule, regulation, order, policy, or license;

(9) To the National Archives and Records Administration (NARA) or other Federal government agencies pursuant to records management inspections being conducted under the authority of 44 U.S.C. 2904 and 2906;

(10) Any authorized agency or component of the Department of Treasury, the Department of Justice (DOJ), the Federal Reserve System, the Federal Deposit Insurance Corporation or other law enforcement authorities including disclosure by such authorities: (a) To the extent relevant and necessary in connection with litigation in proceedings before a court or other adjudicative body, where (i) The United States is a party to or has an interest in the litigation, including where the agency, or an agency component, or an agency official or employee in his or her official capacity, or an individual agency official or employee whom the DOJ or the CFPB has agreed to represent, is or may likely become a party, and (ii) the litigation is likely to affect the agency or any component thereof; or (b) To outside experts or consultants when considered appropriate by CFPB staff to assist in the conduct of agency matters.

(11) A grand jury pursuant either to a Federal or State grand jury subpoena, or to a prosecution request that such record be released for the purpose of its introduction to a grand jury, where the subpoena or request has been specifically approved by a court. In those cases where the Federal Government is not a party to the proceeding, records may be disclosed if a subpoena has been signed by a judge.

(12) A court, magistrate, or administrative tribunal in the course of an administrative proceeding or judicial proceeding, including disclosures to opposing counsel or witnesses (including expert witnesses) in the course of discovery or other pre- hearing exchanges of information, litigation, or settlement negotiations, where relevant or potentially relevant to a proceeding, or in connection with criminal law proceedings.

(13) Appropriate agencies, entities, and persons, including but not limited to potential expert witnesses or witnesses in the course of investigations, to the extent necessary to secure information relevant to the investigation; and

(14) An entity or person that is the subject of supervision or enforcement activities including examinations, investigations, administrative proceedings, and litigation, and the attorney or non-attorney representative for that entity or person.

POLICIES AND PRACTICES FOR STORAGE OF RECORDS:

Paper and electronic records.

POLICIES AND PRACTICES FOR RETRIEVAL OF RECORDS:

Records may be retrieved by a variety of fields including, but not limited to, the individual's name, complaint/inquiry case number, address, account number, transaction number, phone number, date of birth, or by some combination thereof.

POLICIES AND PRACTICES FOR RETENTION AND DISPOSAL OF RECORDS:

The CFPB manages and dispositions records identified in this SORN in accordance with the NARA approved records schedule DAA-0587-2013-0011 and the corresponding items provided within.

ADMINISTRATIVE, TECHNICAL, AND PHYSICAL SAFEGUARDS:

Access to electronic records is restricted to authorized personnel who have been issued non-transferrable access codes and passwords. Other records are maintained in locked file cabinets or rooms with access limited to those personnel whose official duties require access.

RECORD ACCESS PROCEDURES:

Individuals seeking notification and access to any record contained in this system of records may inquire in writing in accordance with instructions in 12 CFR 1070.50 et seq. Address such requests to: Chief Privacy Officer, Consumer Financial Protection Bureau, 1700 G Street NW, Washington, DC 20552. Instructions are also provided on the CFPB website: https://www.consumerfinance.gov/foia-requests/submit-request/.

CONTESTING RECORD PROCEDURES:

See “Access Procedures” above.

NOTIFICATION PROCEDURES:

See “Access Procedures” above.

EXEMPTIONS PROMULGATED FOR THE SYSTEM:

Portions of the records in this system are compiled for law enforcement purposes and are exempt from disclosure under CFPB's Privacy Act regulations and 5 U.S.C. 552a(k)(2). Federal criminal law enforcement investigatory reports maintained as part of this system may be the subject of exemptions imposed by the originating agency pursuant to 5 U.S.C. 552a(j)(2).

HISTORY: 7

6 FR 45761 (Aug. 1, 2011); 76 FR 45765 (Aug. 1, 2011); 83 FR 23435 (May 21, 2018); 85 FR 3649 (Jan. 22, 2020); 85 FR 3659 (Jan. 22, 2020).

Kathryn Fong,
Chief Privacy Officer, Bureau of Consumer Financial Protection.

[FR Doc. 2024-20222 Filed 9-6-24; 8:45 am]

BILLING CODE 4810-AM-P